DEPARTMENT OF HOMELAND SECURITY

Coast Guard

33 CFR Parts 1, 2, 3, 5, 6, 8, 13, 17, 23, 25, 26, 27, 40, 45, 50, 51, 52, 55, 62, 64, 66, 67, 70, 72, 74, 76, 80, 82, 83, 100, 101, 103, 104, 105, 106, 107, 109, 114, 115, 117, 118, 125, 126, 127, 143, 145, 146, 148, 149, 150, 151, 153, 154, 155, 156, 160, 161, 162, 164, 165, 166, 167, 169, and 177

46 CFR Parts 1, 2, 4, 7, 8, 16, 28, 30, 35, 39, and 68

[Docket No. USCG-2020-0304]

Navigation and Navigable Waters, and Shipping; Technical, Organizational, and Conforming Amendments

AGENCY: Coast Guard, DHS.

ACTION: Final rule.

SUMMARY: This final rule makes non-substantive technical, organizational, and conforming amendments to existing Coast Guard regulations. In addition, this technical amendment updates the statutory authority citations for many Coast Guard regulations since the Frank LoBiondo Coast Guard Authorization Act of 2018 redesignated existing United States Code provisions into new titles and sections. This rule will have no substantive effect on the regulated public.

DATES: This final rule is effective September 18, 2020.

ADDRESSES: To view documents mentioned in this preamble as being available in the docket, go to https://www.regulations.gov, type USCG-2020-0304 in the “SEARCH” box and click “SEARCH.” Click on Open Docket Folder on the line associated with this rule.

FOR FURTHER INFORMATION CONTACT: For information about this document call or email Kate Sergent, Coast Guard; telephone 202-372-3860, email kate.e.sergent@uscg.mil.

SUPPLEMENTARY INFORMATION:

Table of Contents for Preamble

I. Abbreviations

II. Regulatory History

III. Basis and Purpose

IV. Discussion of the Rule

A. Authority Citation Updates

B. Technical Amendments to Title 33 of the CFR

C. Technical Amendments to Title 46 of the CFR

V. Regulatory Analyses

A. Regulatory Planning and Review

B. Small Entities

C. Assistance for Small Entities

D. Collection of Information

E. Federalism

F. Unfunded Mandates Reform Act

G. Taking of Private Property

H. Civil Justice Reform

I. Protection of Children

J. Indian Tribal Governments

K. Energy Effects

L. Technical Standards

M. Environment

I. Abbreviations

Authorization Act Frank LoBiondo Coast Guard Authorization Act of 2018

CFR Code of Federal Regulations

DHS Department of Homeland Security

FR Federal Register

OMB Office of Management and Budget

PWSA Ports and Waterways Safety Act

§ Section

U.S.C. United States Code

II. Regulatory History

We did not publish a notice of proposed rulemaking for this rule. Under title 5 of the United States Code (U.S.C.), Section 553(b)(A), the Coast Guard finds that this final rule is exempt from notice and public comment rulemaking requirements because these changes involve rules of agency organization, procedure, or practice. In addition, the Coast Guard finds that notice and comment procedures are unnecessary for this final rule under 5 U.S.C. 553(b)(B), as this rule consists of only technical and editorial corrections and these changes will have no substantive effect on the public. Under 5 U.S.C. 553(d)(3), the Coast Guard finds that, for the same reasons, good cause exists for making this final rule effective upon publication in the Federal Register.

III. Basis and Purpose

This final rule, which becomes effective on September 18, 2020, makes technical and editorial corrections throughout titles 33 and 46 of the Code of Federal Regulations (CFR). These changes are necessary to update authority citations, correct errors, update contact information, and make other non-substantive amendments that improve the clarity of the CFR. This rule does not create or change any substantive requirements.

This final rule is issued under the authority of 5 U.S.C. 552(a) and 553; 14 U.S.C. 102 and 503; and Department of Homeland Security Delegation No. 0170.1 and authorities listed at the end of this rule for each CFR part this rule amends.

IV. Discussion of the Rule

The Coast Guard periodically issues technical, organizational, and conforming amendments to existing regulations in titles 33 and 46 of the CFR. These technical amendments provide the public with accurate and current regulatory information, but do not change the effect of any Coast Guard regulations on the public.

A. Authority Citation Updates

On December 4, 2018, Congress enacted the Frank LoBiondo Coast Guard Authorization Act of 2018 (Authorization Act), Public Law 115-282, 132 Stat. 4192. The Authorization Act redesignated multiple provisions within U.S.C. titles 14, 33, 46, and 50, without substantive change, in an effort to reorganize these titles. The Authorization Act redesignated two of our main regulatory authorities, without change, from 14 U.S.C. 2 and 633 into 14 U.S.C. 102 and 503, respectively. Additionally, the Authorization Act redesignated the Ports and Waterways Safety Act (PWSA) provisions, previously located in 33 U.S.C. 1221 through 1236, without substantive change into the new Chapter 700 of U.S.C. title 46, entitled “Ports and Waterways Safety.” ¹ The Coast Guard often uses the affected statutory provisions as authority for issuing regulations related to maritime safety and security. This rule replaces the old statutory authority citations with their redesignated statutory authorities throughout titles 33 and 46 of the CFR.

¹ The Authorization Act moved 33 U.S.C. 1223a, which governs the use of electronic charts, to 46 U.S.C. 3105.

This rule updates the authority citations in 33 CFR parts 1, 2, 3, 5, 6, 8, 13, 17, 23, 25, 26, 40, 45, 50, 51, 52, 55, 62, 64, 66, 67, 70, 72, 74, 76, 80, 82, 101, 103, 104, 105, 106, 107, 109, 114, 115, 118, 125, 126, 127, 143, 145, 146, 150, 153, 154, 155, 156, 160, 161, 162, 164, 165, 166, 167, and 169.

Additionally, within title 33 of the CFR, this rule updates the authority citations for subparts 1.01, 1.05, 1.07, 1.08, 1.10, 1.20, and 1.26 in part 1 and subpart B in part 25.

This rule updates the authority citations in 46 CFR parts 1, 2, 4, 7, 8, 35, 39, and 68.

Additionally, within title 46 of the CFR, this rule updates the authority citation for subpart 1.03.

B. Technical Amendments to Title 33 of the CFR

In § 1.01-40, this rule revises an in-text citation from 14 U.S.C. 47(a) to its new designation in 14 U.S.C. 304.

Section 1.05-25 contains information on the public docket. All of the docket information is maintained electronically on www.regulations.gov and the Coast Guard no longer uses a Docket Management Facility. We are removing references to the Docket Management Facility physical location from this section and noting that it is an electronic docket.

In the parentheses appearing after the regulatory text of § 1.08-1, this rule replaces the citation to 14 U.S.C. 633 with its redesignated section in 14 U.S.C. 503.

In the note to § 1.20-1, this rule replaces the citations to 14 U.S.C. 632 and 633 with their redesignated sections in 14 U.S.C. 505 and 503, respectively.

In § 1.26-10, this rule replaces the citation to 14 U.S.C. 891 with its redesignated section in 14 U.S.C. 4101. In the note to this section, this rule makes the same change.

In § 1.26-15, in paragraph (a) and in the note after the regulatory text, this rule updates the 14 U.S.C. citations from sections 641(b) and 654 to redesignated sections 901(b) and 942, respectively.

In the note to § 2.5, this rule replaces an incorrect cross-reference to 46 CFR 10.103 with the correct reference in 46 CFR 10.107 concerning the definition of “inland waters.” Title 46 CFR 10.107 contains the relevant definition.

In § 2.22(a)(1)(i), this rule removes the reference to the PWSA provisions in 33 U.S.C. 1221-1232 and replaces the citation with 46 U.S.C. subtitle VII, titled “Ports and Waterways Safety,” which is where the PWSA provisions were redesignated by the Authorization Act. We also update in this paragraph the references to 50 U.S.C. 191-195 with their new designations in 46 U.S.C. 70051-70054.

In § 2.32(c), this rule updates the citations to 14 U.S.C. 89(a) and 86 to their new designations, 14 U.S.C. 522 and 545, respectively.

In § 3.01-5, this rule replaces the citation to 14 U.S.C. 633 with its redesignated section in 14 U.S.C. 503.

In the definition of “Auxiliary Act” in § 5.1, this rule updates the previous citations to 14 U.S.C. 821-894 to their newly redesignated citations in 14 U.S.C. 3901-3913 and 4101-4104.

In § 5.17, this rule replaces the citation to 14 U.S.C. 823a with its redesignated section in 14 U.S.C. 3904.

In § 5.18(c), this rule replaces the citation to 14 U.S.C. 707 with its redesignated section in 14 U.S.C. 3707.

In § 5.30(b)(1) and (b)(2), this rule updates references to 14 U.S.C. 822 with its redesignated section in 14 U.S.C. 3902.

In § 5.40(c)(2), this rule updates the citations to 14 U.S.C. 638, 639, and 892 with their redesignated sections, 14 U.S.C. 933, 934, and 4102.

In § 6.18-1, this rule updates the citation 50 U.S.C. 192 to its redesignated citation in 46 U.S.C. 70052.

In § 8.1(b)(2), this rule updates references to 14 U.S.C. 712 with its redesignated section in 14 U.S.C. 3713.

In § 13.01-1, this rule updates references to 14 U.S.C. 500 with its redesignated section in 14 U.S.C. 2744.

In § 23.30, this rule updates references to 14 U.S.C. 638(b) with its redesignated section in 14 U.S.C. 933(b). Additionally, this rule changes the text in the restatement of the statute from “Each Person” to “Every person” to conform to the actual text of 14 U.S.C. 933(b).

In § 25.131(a)(5) through (8), this rule updates references to 14 U.S.C. 642, 646, 647, and 830 with their redesignated sections, 14 U.S.C. 546, 937, 938, and 3911 respectively.

In the parentheses appearing after the regulatory text of § 26.02, this rule replaces the 14 U.S.C. 2 citation with its redesignated section in 14 U.S.C. 102.

In the Civil Penalty Adjustment Table in table 1 to § 27.3, this rule updates U.S.C. title 14 citations to their redesignated sections as noted herein. Specifically, the penalties for Confidentiality of Medical Quality Assurance Records (first offense and subsequent offenses), previously in 14 U.S.C. 645(i), were redesignated without change into 14 U.S.C. 936(i) by the Authorization Act.

In § 52.2(a), this rule updates the in-text citation to 14 U.S.C. 425 to its redesignated section in 14 U.S.C. 2507.

In § 66.01-45, this rule updates the in-text citation to 14 U.S.C. 83 to its redesignated section in 14 U.S.C. 542.

In § 67.40-25, this rule updates the in-text citation 14 U.S.C. 85 to its redesignated section in 14 U.S.C. 544.

In the parenthetical after § 72.05-1(b), this rule updates the citation to 14 U.S.C. 93 to its redesignated section in 14 U.S.C. 504.

This rule removes the text “in accordance with Part 25 of the title” from § 74.01-1. In 1981, the Coast Guard removed all claims, except for defensive claims, from 33 CFR part 25. Section 74.01-1 deals with claims for damages. Because a claim for damages is not a defensive claim, referencing part 25 in this section is not a proper cross-reference. Removing this language will not have any effect on a claim for damages made under this section.

In § 83.22(c), this rule revises a formatting inconsistency. After the word “length” in paragraph (c), this rule changes the hyphen to a colon to align it with the other paragraphs in this section that end with a colon.

In § 100.35(c), this rule removes reference to the Act of April 28, 1908 because the Act was repealed by the Authorization Act of 2018. The section will continue to state that special local regulations must be issued under the authority of 46 U.S.C. 70041 authorized by 33 CFR 1.05-1, which contains the Coast Guard's rulemaking delegations.

In § 101.415(a), this rule updates the in-text citations to 33 U.S.C. 1232 and 50 U.S.C. 192 because they were redesignated into 46 U.S.C. 70036 and 70052, respectively, by the Authorization Act.

In Part 105, this rule deletes Appendix A—Facility Vulnerability and Security Measures Summary (Form CG-6025) because the form in Appendix A is not current. The current version of form CG-6025 is available at the Coast Guard forms web address. In §§ 105.140(b),105.405(a)(18), and 105.410(e), this rule removes references to the form in Appendix A and inserts a Coast Guard web address, http://www.dcms.uscg.mil/forms/, where the updated electronic form CG-6025 can be found.

In § 107.200, within the definition of “U.S. territorial waters,” this rule updates the in-text citation to 50 U.S.C. 195 to its redesignated section 46 U.S.C. 70054. This amendment will have no substantive effect on the definition because the text of 50 U.S.C. 195 was redesignated by the Authorization Act into 46 U.S.C. 70054 without change.

In § 114.05, within the definition of “United States Coast Guard or Coast Guard”, this rule updates the in-text citation to 14 U.S.C. 1 to its identical redesignated section, 14 U.S.C. 101.

In §§ 114.25, 114.50, 115.60, and 115.70 within the parentheses after the regulatory texts, this rule updates the citations to 14 U.S.C. 633 with its redesignated section in 14 U.S.C. 503.

This rule corrects the names of the drawbridges in § 117.149 from 3rd Street and 4th Street drawbridges to Third Street and Fourth Street drawbridges. On June 28, 2019, the Coast Guard issued a technical amendment final rule that contained this same change (84 FR 30879). The amendment could not be incorporated into § 117.149 at the time because the section was suspended. Now that the suspension of § 117.149 has been lifted, the Coast Guard is using this rule to change the names of the drawbridges.

In § 117.235, regarding the Conrail bridge, this rule adds the bridge operator's name to the regulatory text. This amendment will help vessel operators determine whom to contact for information and requests regarding the Conrail bridge operation.

In § 117.243, concerning Norfolk Southern Railway Bridge on the Nanticoke River, this rule adds the drawbridge operator's name and updates the existing phone number in the regulatory text. This updated information is necessary for vessel operators to contact the Norfolk Southern Railway Bridge operators as needed.

In § 117.569(a), this rule also adds the bridge operator's name and contact information for the Conrail railroad bridge on the Pocomoke River so vessel operators can contact the bridge operator as needed.

In the section name of § 117.785, this rule corrects the spelling of the Genesee River from the previous incorrect spelling of “Genessee” River.

This rule corrects the name of the Livingston Ave. (Amtrak) Bridge in § 117.791(c) from the previous incorrect spelling of “Livingstone”.

Section 117.903(a) contains the regulations for bridges on Darby Creek, including the Conrail railroad bridge. This rule removes the word, “automated,” from the Conrail railroad bridge's name to reflect the proper name of the bridge.

In § 117.1087, this rule corrects the name of the Canadian National Bridge by removing “Railroad” from the bridge name in paragraph (b) and capitalizing “Bridge” in its name in both paragraphs (b) and (c).

In § 118.5, this rule updates the in-text citation to 14 U.S.C. 85 to its redesignated section in 14 U.S.C. 544.

In § 126.13(b), this rule removes references to the PWSA (33 U.S.C. 1232) and inserts the citation to 46 U.S.C. 70036, because the Authorization Act repealed and redesignated the relevant PWSA provision to 46 U.S.C. 70036.

Similarly, in §§ 126.25 and 126.33, this rule removes the references to the repealed section 13 of the PWSA (33 U.S.C. 1232) and inserts the redesignated citation in 46 U.S.C. 70036.

In § 127.015(c)(1), this rule adds the word “Policy” to correct the title of the Assistant Commandant for Prevention Policy (CG-5P).

In § 148.5, this rule adds the word “Policy” to correct the title of the Assistant Commandant for Prevention Policy (CG-5P).

This rule updates the office symbol for Assistant Commandant for Prevention Policy (CG-5P) in § 148.105(i). The Coast Guard reorganized offices so that the relevant office within the previous CG-5 became CG-5P.

In § 148.115(a), this rule adds the word “Policy” to correct the title of the Assistant Commandant for Prevention Policy (CG-5P).

In § 148.207(c), this rule updates the Coast Guard web address that contains the list of deepwater port projects and corrects the responsible office to the Vessel and Facility Operating Standards Division (CG-OES-2). The updated web address is https://www.dco.uscg.mil/Our-Organization/Assistant-Commandant-for-Prevention-Policy-CG-5P/Commercial-Regulations-standards-CG-5PS/Office-of-Operating-and-Environmental-Standards/vfos12/.

In § 148.209(a), this rule updates the web address in the regulations for a list of the Federal agencies involved in the deep water port licensing. The updated web address is https://www.dco.uscg.mil/Portals/9/DCO%20Documents/5p/5ps/Operating%20and%20Environmental%20Standards/OES-2/DWP/dwp_white_house_task_force_energy_streamlining.pdf?ver=2017-07-26-102702-223.

This rule updates the current web address listed in § 148.252(d) where the public can obtain a proposed subpoena form. The updated web address is https://www.uscg.mil/Resources/Administrative-Law-Judges/General-Suspension-and-Revocation-Information/Subpoena-Information/.

This rule updates the office symbol for the Assistant Commandant for Prevention Policy (CG-5P) in §§ 148.222(b), 149.15(a), (d) and (e). The Coast Guard reorganized offices so that the relevant office within the previous CG-5 became CG-5P.

In § 151.28, this rule updates the office symbol designation from “(CG-5431)” to “(CG-CVC-1),” to reflect the redesignated office symbol.

In § 151.66(b)(3), this rule corrects the spelling of “Discharges” in the title of table § 151.66(b)(3).

In § 155.1015(c)(1), this rule replaces the citation to 14 U.S.C. 827 with its redesignated section, 14 U.S.C. 3908.

In § 160.1, this rule removes references to the repealed PWSA (33 U.S.C. 1221) and inserts 46 U.S.C. Chapter 700, “Ports and Waterways Safety” to reflect the Authorization Act's redesignation of regulatory authority.

In § 160.107, this rule removes the repealed PWSA sections, 33 U.S.C. 1221-1232, and inserts 46 U.S.C. Chapter 700 as a current source of authority for denial of entry.

In § 160.320, this rule removes reference to the repealed authority in 33 U.S.C. 1223(b), and inserts its redesignated authority for the Secretary to control vessel movement in 46 U.S.C. 70002.

In §§ 161.1 and 161.6, this rule removes references to the repealed PWSA and inserts 46 U.S.C. Chapter 700, “Ports and Waterways Safety” to reflect the redesignation of our regulatory authority.

In the authorities listed in the parentheses below the note to § 162.80, this rule updates the repealed PWSA authority, 33 U.S.C. 1231, to its redesignated section, 46 U.S.C. 70034.

In the parentheses following the regulatory text of §§ 164.25, 164.35, and 164.37, this rule replaces the repealed PWSA authority with its redesignated authority in 46 U.S.C. Chapter 700.

In the note to § 164.46(b), this rule replaces the repealed PWSA citation, 33 U.S.C. 1223(b)(3), with its redesignated section, 46 U.S.C. 70002.

In the parentheses following the regulatory text of § 164.53, this rule replaces the repealed PWSA authority citation, 33 U.S.C. 1221, with it our updated regulatory authority, 46 U.S.C. 70034.

In § 164.82(c), this rule replaces an outdated cross-reference to a reporting requirements section that no longer exists. This section references § 161.124 as the source of the requirement to report any malfunction of vessel operating equipment or other restricted maneuverability to the Coast Guard. A final rule titled, “National Vessel Traffic Services Regulations” (59 FR 36316), issued on July 15, 1994, deleted § 161.124 from the CFR and consolidated all of the reporting requirements into the new section § 161.18(a). When § 164.82(c) was implemented by the final rule, “Navigation Safety Equipment for Towing Vessels” (61 FR 35064), issued on July 3, 1996, the cross-referenced section, § 161.124, had already been deleted. The vessel malfunction and restricted maneuverability reporting requirement was moved into table 161.18(a), Row Q, by the “National Vessel Traffic Services Regulations” final rule. This rule inserts table 161.18(a), Row Q, as the correct cross-reference for the vessel malfunction or deficiency reporting requirement mentioned in § 164.82(c). Additionally, this rule removes the in-text summary of § 161.124 in subparagraphs (c)(1), (2) and (3) because that section no longer exists.

Section 165.5(a) currently states that an “authorized Coast Guard official” may establish a security zone, safety zone, or regulated navigation area. This rule will add in paragraph (a), a cross-reference to 33 CFR 1.05-1, where the rulemaking delegations are listed, as the source for determining the proper Coast Guard official to issue these regulations.

In § 165.9(d), this rule replaces the citations 14 U.S.C. 91 and 633 with their redesignated sections, 14 U.S.C. 527 and 503, respectively.

In § 165.758(d), this rule replaces the authority citation to 33 U.S.C. 1231 with its redesignated section, 46 U.S.C. 70034.

This rule redesignates § 165.784 titled “Safety Zone, Schuylkill River; Philadelphia, PA” as § 165.559, without change, so that it is listed within the correct Coast Guard district. This safety zone is geographically located in District 5, but it was inadvertently given a section number that placed it among District 7 regulations in part 165.

In the parentheses after § 165.810, this rule removes the repealed PWSA authorities, 33 U.S.C. 1223 and 1224, and inserts the redesignated authority, 46 U.S.C. Chapter 700.

This rule changes the section number of a 14th Coast Guard District safety zone titled “Safety Zones; Hawaiian Islands Commercial Harbors, HI” from § 165.14-1414 to § 165.1415 to align with the section numbering scheme within part 165.

In §§ 166.110 and 167.15(a), this rule removes references to the repealed PWSA authorities, 33 U.S.C. 1223(c) and 33 U.S.C. 1223, respectively, and inserts the redesignated authority, 46 U.S.C. 70003.

In §§ 169.135(b) and (c), the Coast Guard is including an email address reporting option for the Right Whale Mandatory Ship Reporting System. Currently, email reports are permitted and comprise the majority of the reports received. This will update the contact information and communication vectors to reflect current technology.

In § 177.03(c), this rule replaces the 14 U.S.C. 89 citation with its redesignated section, 14 U.S.C. 522.

C. Technical Amendments to Title 46 of the CFR

In § 16.500(b)(1) and (b)(2), this rule updates the web address for submitting the form titled “U.S. Department of Transportation Drug and Alcohol Testing MIS Data Collection Form.” The updated web address is https://www.dco.uscg.mil/Our-Organization/Assistant-Commandant-for-Prevention-Policy-CG-5P/Inspections-Compliance-CG-5PC-/Office-of-Investigations-Casualty-Analysis/DAPI-Program-Main-Page/.

In § 28.50, this rule replaces the 14 U.S.C. 89 citation with its redesignated section, 14 U.S.C. 522.

In § 28.275(a)(2), this rule removes “46 CFR” preceding the cross-reference citation and replaces it with a section symbol in order to align with the formatting of all other cross-references in this section.

In § 30.30-1(c), this rule replaces the repealed PWSA authority, 33 U.S.C. 1228(a)(5), with its redesignated authority in 46 U.S.C. 70021(a)(5).

In § 39.1005(a), this rule updates the Coast Guard's mailing address for the Office of Design and Engineering Standards.

In § 39.1015, this rule corrects a cross-reference to 33 CFR 39.1013(a) to the intended citation of 46 CFR 39.1013(a).

V. Regulatory Analyses

We developed this rule after considering numerous statutes and Executive orders related to rulemaking. Below we summarize our analyses based on these statutes or Executive orders.

A. Regulatory Planning and Review

Executive Orders 12866 (Regulatory Planning and Review) and 13563 (Improving Regulation and Regulatory Review) direct agencies to assess the costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. Executive Order 13771 (Reducing Regulation and Controlling Regulatory Costs) directs agencies to reduce regulation and control regulatory costs and provides that “for every one new regulation issued, at least two prior regulations be identified for elimination, and that the cost of planned regulations be prudently managed and controlled through a budgeting process.”

The Office of Management and Budget (OMB) has not designated this rule a significant regulatory action under section 3(f) of Executive Order 12866. Accordingly, OMB has not reviewed it. Because this rule is not a significant regulatory action, this rule is exempt from the requirements of Executive Order 13771. See the OMB Memorandum titled “Guidance Implementing Executive Order 13771, titled `Reducing Regulation and Controlling Regulatory Costs' ” (April 5, 2017). A regulatory analysis (RA) follows.

This rule involves non-substantive technical amendments and internal agency practices and procedures; it will not impose any additional costs. The unquantified benefits of the non-substantive technical amendments are increased clarity of regulations and alignment with the updated section numbers for statutory authority citations that the Coast Guard already references in new rulemakings. In addition, the correction of technical items such as Coast Guard offices, bridge titles and addresses, as well as current web addresses will improve ability to reference and contact the correct entities.

B. Small Entities

Under the Regulatory Flexibility Act, 5 U.S.C. 601-612, we have considered whether this rule will have a significant economic impact on a substantial number of small entities. The term “small entities” comprises small businesses, not-for-profit organizations that are independently owned and operated and are not dominant in their fields, and governmental jurisdictions with populations of less than 50,000.

This rule is not preceded by a notice of proposed rulemaking. The Regulatory Flexibility Act does not apply when notice and comment rulemaking is not required. Therefore, this rule is exempt from the requirements of the Regulatory Flexibility Act. This rule consists of technical, organizational, and conforming amendments and does not have any substantive effect on the regulated industry or small businesses.

C. Assistance for Small Entities

Under section 213(a) of the Small Business Regulatory Enforcement Fairness Act of 1996, Public Law 104-121, we offer to assist small entities in understanding this rule so that they can better evaluate its effects on them and participate in the rulemaking. The Coast Guard will not retaliate against small entities that question or complain about this rule or any policy or action of the Coast Guard.

D. Collection of Information

The Paperwork Reduction Act of 1995, 44 U.S.C. 3501-3520, requires that the Coast Guard consider the impact of paperwork and other information collection burdens. The Coast Guard has determined that there is no new requirement for information collection associated with this final rule.

E. Federalism

A rule has implications for federalism under Executive Order 13132 (Federalism) if it has a substantial direct effect on States, on the relationship between the National Government and the States, or on the distribution of power and responsibilities among the various levels of government. We have analyzed this rule under Executive Order 13132 and have determined that it is consistent with the fundamental federalism principles and preemption requirements described in Executive Order 13132.

F. Unfunded Mandates Reform Act

The Unfunded Mandates Reform Act of 1995, 2 U.S.C. 1531-1538, requires Federal agencies to assess the effects of their discretionary regulatory actions. In particular, the Act addresses actions that may result in the expenditure by a State, local, or tribal government, in the aggregate, or by the private sector of $100,000,000 (adjusted for inflation) or more in any one year. Although this rule will not result in such expenditure, we do discuss the effects of this rule elsewhere in this preamble.

G. Taking of Private Property

This rule will not cause a taking of private property or otherwise have taking implications under Executive Order 12630 (Governmental Actions and Interference with Constitutionally Protected Property Rights).

H. Civil Justice Reform

This rule meets applicable standards in sections 3(a) and 3(b)(2) of Executive Order 12988 (Civil Justice Reform) to minimize litigation, eliminate ambiguity, and reduce burden.

I. Protection of Children

We have analyzed this rule under Executive Order 13045 (Protection of Children from Environmental Health Risks and Safety Risks). This rule is not an economically significant rule and will not create an environmental risk to health or risk to safety that might disproportionately affect children.

J. Indian Tribal Governments

This rule does not have tribal implications under Executive Order 13175 (Consultation and Coordination with Indian Tribal Governments), because it will not have a substantial direct effect on one or more Indian tribes, on the relationship between the Federal Government and Indian tribes, or on the distribution of power and responsibilities between the Federal Government and Indian tribes.

K. Energy Effects

We have analyzed this rule under Executive Order 13211 (Actions Concerning Regulations That Significantly Affect Energy Supply, Distribution, or Use). We have determined that it is not a “significant energy action” under that order because it is not a “significant regulatory action” under Executive Order 12866 and is not likely to have a significant adverse effect on the supply, distribution, or use of energy.

L. Technical Standards

The National Technology Transfer and Advancement Act, codified as a note to 15 U.S.C. 272, directs agencies to use voluntary consensus standards in their regulatory activities unless the agency provides Congress, through OMB, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

M. Environment

We have analyzed this rule under Department of Homeland Security Management Directive 023-01, Rev. 1, associated implementing instructions, and Environmental Planning COMDTINST 5090.1 (series), which guide the Coast Guard in complying with the National Environmental Policy Act of 1969 (42 U.S.C. 4321-4370f), and have concluded that this action is one of a category of actions that do not individually or cumulatively have a significant effect on the human environment. A final Record of Environmental Consideration supporting this determination is available in the docket. For instructions on locating the docket, see the ADDRESSES portion of this preamble.

This rule is categorically excluded under paragraphs A3 and L54 of Appendix A, table 1 of DHS Instruction Manual 023-01, Rev. 1.² Paragraph A3 pertains to the promulgation of rules, issuance of rulings or interpretations, and the development and publication of policies, orders, directives, notices, procedures, manuals, advisory circulars, and other guidance documents of the following nature: (a) Those of a strictly administrative or procedural nature; (b) those that implement, without substantive change, statutory or regulatory requirements; (c) those that implement, without substantive change, procedures, manuals, and other guidance documents; and (d) those that interpret or amend an existing regulation without changing its environmental effect. Paragraph L54 pertains to regulations which are editorial or procedural. This final rule involves non-substantive technical, organizational, and conforming amendments to existing Coast Guard regulations.

² https://www.dhs.gov/sites/default/files/publications/DHS_Instruction%20Manual%20023-01-001-01%20Rev%2001_508%20Admin%20Rev.pdf.

List of Subjects

33 CFR Part 1

Administrative practice and procedure, Authority delegations (Government agencies), Freedom of information, Penalties.

33 CFR Part 2

Administrative practice and procedure, Law enforcement.

33 CFR Part 3

Organization and functions (Government agencies).

33 CFR Part 5

Volunteers.

33 CFR Part 6

Harbors, Security Measures, Vessels.

33 CFR Part 8

Armed forces reserves.

33 CFR Part 13

Decorations, Medals, Awards.

33 CFR Part 17

Government property.

33 CFR Part 23

Aircraft, Signs and symbols, Vessels.

33 CFR Part 25

Authority delegations (Government agencies), Claims.

33 CFR Part 26

Communications equipment, Marine safety, Radio, Telephone, Vessels.

33 CFR Part 27

Administrative practice and procedure, Penalties.

33 CFR Part 40

Military academies.

33 CFR Part 45

Military personnel, Reporting and recordkeeping requirements.

33 CFR Part 50

Administrative practice and procedure, Disability benefits, Military personnel, Retirement.

33 CFR Part 51

Administrative practice and procedure, Military personnel.

33 CFR Part 52

Administrative practice and procedure, Archives and records, Military personnel.

33 CFR Part 55

Day care, Government employees, Infants and children, Military personnel.

33 CFR Part 62

Navigation (water).

33 CFR Part 64

Navigation (water), Reporting and recordkeeping requirements.

33 CFR Part 66

Intergovernmental relations, Navigation (water), Reporting and recordkeeping requirements.

33 CFR Part 67

Continental shelf, Navigation (water), Reporting and recordkeeping requirements.

33 CFR Part 70

Navigation (water), Penalties.

33 CFR Part 72

Government publications, Navigation (water).

33 CFR Part 74

Navigation (water).

33 CFR Part 76

Navigation (water).

33 CFR Part 80

Navigation (water), Treaties, Waterways.

33 CFR Part 82

Navigation (water), Treaties.

33 CFR Part 83

Fishing vessels, Navigation (water), Waterways.

33 CFR Part 100

Marine safety, Navigation (water), Reporting and recordkeeping requirements, Waterways.

33 CFR Part 101

Harbors, Maritime security, Reporting and recordkeeping requirements, Security measures, Vessels, Waterways.

33 CFR Part 103

Harbors, Maritime security, Reporting and recordkeeping requirements, Security measures, Vessels, Waterways.

33 CFR Part 104

Maritime security, Reporting and recordkeeping requirements, Security measures, Vessels.

33 CFR Part 105

Maritime security, Navigation (water), Reporting and recordkeeping requirements, Security measures, Waterways.

33 CFR Part 106

Continental shelf, Maritime security, Reporting and recordkeeping requirements, Security measures.

33 CFR Part 107

Harbors, Marine safety, Maritime security, Navigation (water), Reporting and recordkeeping requirements, Security measures, Vessels, Waterways.

33 CFR Part 109

Anchorage grounds.

33 CFR Part 114

Bridges.

33 CFR Part 115

Administrative practice and procedure, Bridges, Reporting and recordkeeping requirements.

33 CFR Part 117

Bridges.

33 CFR Part 118

Bridges.

33 CFR Part 125

Administrative practice and procedure, Harbors, Reporting and recordkeeping requirements, Security measures, Vessels.

33 CFR Part 126

Explosives, Harbors, Hazardous substances, Reporting and recordkeeping requirements.

33 CFR Part 127

Fire prevention, Harbors, Hazardous substances, Natural gas, Reporting and recordkeeping requirements, Security measures.

33 CFR Part 143

Continental shelf, Marine safety, Occupational safety and health, Vessels.

33 CFR Part 145

Continental shelf, Fire prevention, Marine safety, Occupational safety and health.

33 CFR Part 146

Continental shelf, Marine safety, Occupational safety and health, Reporting and recordkeeping requirements, Vessels.

33 CFR Part 150

Harbors, Marine safety, Navigation (water), Occupational safety and health, Oil pollution, Reporting and recordkeeping requirements.

33 CFR Part 151

Administrative practice and procedure, Oil pollution, Penalties, Reporting and recordkeeping requirements, Water pollution control.

33 CFR Part 153

Hazardous substances, Oil pollution, Reporting and recordkeeping requirements, Water pollution control.

33 CFR Part 154

Alaska, Fire prevention, Hazardous substances, Oil pollution, Reporting and recordkeeping requirements.

33 CFR Part 155

Alaska, Hazardous substances, Oil pollution, Reporting and recordkeeping requirements.

33 CFR Part 156

Hazardous substances, Oil pollution, Reporting and recordkeeping requirements, Water pollution control.

33 CFR Part 160

Administrative practice and procedure, Harbors, Hazardous materials transportation, Marine safety, Navigation (water), Personally identifiable information, Reporting and recordkeeping requirements, Seamen, Vessels, Waterways.

33 CFR Part 161

Harbors, Navigation (water), Reporting and recordkeeping requirements, Vessels, Waterways.

33 CFR Part 162

Navigation (water), Waterways.

33 CFR Part 164

Marine, Navigation (water), Reporting and recordkeeping requirements, Waterways.

33 CFR Part 165

Harbors, Marine safety, Navigation (water), Reporting and recordkeeping requirements, Security measures, Waterways.

33 CFR Part 166

Anchorage grounds, Marine safety, Navigation (water), Waterways.

33 CFR Part 167

Harbors, Marine safety, Navigation (water), Waterways.

33 CFR Part 169

Endangered and threatened species, Marine mammals, Navigation (water), Radio, Reporting and recordkeeping requirements, Vessels, Water pollution control.

3 CFR Part 177

Marine safety.

46 CFR Part 1

Administrative practice and procedure, Organization and functions (Government agencies), Reporting and recordkeeping requirements.

46 CFR Part 2

Marine safety, Reporting and recordkeeping requirements, Vessels.

46 CFR Part 4

Administrative practice and procedure, Drug testing, Investigations, Marine safety, National Transportation Safety Board, Nuclear vessels, Radiation protection, Reporting and recordkeeping requirements, Safety, Transportation.

46 CFR Part 7

Law enforcement, Vessels.

46 CFR Part 8

Administrative practice and procedure, Organization and functions (Government agencies), Reporting and recordkeeping requirements, Vessels.

46 CFR Part 16

Drug testing, Marine safety, Reporting and recordkeeping requirements, Safety, Transportation.

46 CFR Part 28

Alaska, Fire prevention, Fishing vessels, Marine safety, Occupational safety and health, Reporting and recordkeeping requirements, Seamen.

46 CFR Part 30

Cargo vessels, Foreign relations, Hazardous materials transportation, Penalties, Reporting and recordkeeping requirements, Seamen.

46 CFR Part 35

Cargo vessels, Marine safety, Navigation (water), Occupational safety and health, Reporting and recordkeeping requirements, Seamen.

46 CFR Part 39

Cargo vessels, Fire prevention, Hazardous materials transportation, Incorporation by reference, Marine safety, Occupational safety and health, Reporting and recordkeeping requirements.

46 CFR Part 68

Oil pollution, Vessels.

For the reasons discussed in the preamble, the Coast Guard amends 33 CFR parts 1, 2, 3, 5, 6, 8, 13, 17, 23, 25, 26, 27, 40, 45, 50, 51, 52, 55, 62, 64, 66, 67, 70, 72, 74, 76, 80, 82, 83, 100, 101, 103, 104, 105, 106, 107, 109, 114, 115, 117, 118, 125, 126, 127, 143, 145, 146, 148, 149, 150, 151, 153, 154, 155, 156, 160, 161, 162, 164, 165, 166, 167, 169, and 177, and 46 CFR parts 1, 2, 4, 7, 8, 16, 28, 30, 35, 39, and 68 as follows:

TITLE 33—NAVIGATION AND NAVIGABLE WATERS

PART 1—GENERAL PROVISIONS

Subpart 1.01—Delegation of Authority

1. Revise the authority citation for subpart 1.01 to read as follows:

Authority: 14 U.S.C. 502, 503, 505; 33 U.S.C. 401, 491, 525, 1321, 2716, and 2716a; 42 U.S.C. 9615; 49 U.S.C. 322; Department of Homeland Security Delegation No. 0170.1; section 1.01-70 also issued under the authority of E.O. 12580, 3 CFR, 1987 Comp., p. 193; and sections 1.01-80 and 1.01-85 also issued under the authority of E.O. 12777, 3 CFR, 1991 Comp., p. 351.

§ 1.01-40 [Amended]

2. In § 1.01-40, remove the text “14 U.S.C. 47(a)” and add, in its place, the text “14 U.S.C. 304”.

Subpart 1.05-1—Rulemaking

3. Revise the authority citation for subpart 1.05-1 to read as follows:

Authority: 5 U.S.C. 552, 553, App. 2; 14 U.S.C. 102, 502, 503, 505; 33 U.S.C. 471, 499; 49 U.S.C. 101, 322; Department of Homeland Security Delegation No. 0170.1.

4. Revise § 1.05-25(a) to read as follows:

§ 1.05-25 Public Docket.

(a) The Coast Guard maintains an electronic public docket for each petition for rulemaking and each Coast Guard rulemaking project and notice published in the Federal Register. Each rulemaking docket contains copies of every rulemaking document published for the project, public comments received, summaries of public meetings or hearings, regulatory assessments, and other publicly-available information. Members of the public may inspect the public docket and copy any documents in the docket. Public dockets for Coast Guard rulemakings are available electronically at https://www.regulations.gov. To access a rulemaking, enter the docket number associated with the rulemaking or notice in the “Search” box and click “Go >.”

* * * * *

Subpart 1.07—Enforcement; Civil and Criminal Penalty Proceedings

5. Revise the authority citation for subpart 1.07 to read as follows:

Authority: 14 U.S.C. 503; 14 U.S.C. 501; 33 U.S.C. 1321(b)(6)(B); 46 U.S.C. 2103; Department of Homeland Security Delegation 0701.1.

Subpart 1.08—Written Warnings by Coast Guard Board Officers

6. Revise the authority citation for subpart 1.08 to read as follows:

Authority: 14 U.S.C. 503; 49 CFR 1.46(b).

§ 1.08-1 [Amended]

7. Amend the text in parentheses below § 1.08-1 by removing the text “633” and adding, in its place, the text “503”.

Subpart 1.10—Public Availability of Information

8. Revise the authority citation for subpart 1.10 to read as follows:

Authority: 5 U.S.C. 552; 14 U.S.C. 503, sec. 6(b)(1), 80 Stat. 937 (49 U.S.C. 1655(b)(1)); 49 CFR 1.46(b).

Subpart 1.20—Testimony by Coast Guard Personnel and Production of Records in Legal Proceedings

9. Revise the authority citation for subpart 1.20 to read as follows:

Authority: 5 U.S.C. 301; 14 U.S.C. 503, 505, 49 U.S.C. 322; 49 CFR 1.46 and part 9.

§ 1.20-1 [Amended]

10. Amend the text in parentheses below § 1.20-1 by removing the text “632, 633”, and add, in its place, the text “503, 505”.

Subpart 1.26—Charges for Duplicate Medals, and Sales of Personal Property, Equipment, or Services and Rentals

11. Revise the authority citation for subpart 1.26 to read as follows:

Authority: 14 U.S.C. 503; 49 CFR 1.46(k).

§ 1.26-10 [Amended]

12. Remove the text “891” wherever it appears and add, in its place, the text “4101”.

§ 1.26-15 [Amended]

13. Revise § 1.26-15 by:

a. In paragraph (a), removing the text “641(b)”, and adding, in its place, the text “901(b)”,

b. In the text in parentheses below the regulatory text, remove the text “641(b), 654” and add, in its place, the text “901(b), 942”.

PART 2—JURISDICTION

14. Revise the authority citation for part 2 to read as follows:

Authority: 14 U.S.C. 503; 33 U.S.C. 70031; Public Law 89-670, 80 Stat. 931, 49 U.S.C. 108; Public Law 107-296, 116 Stat. 2135, 2249, 6 U.S.C. 101 note and 468; Department of Homeland Security Delegation No. 0170.1.

§ 2.5 [Amended]

15. In the note to § 2.5, remove the text “46 CFR 10.103” and add, in its place, the text “46 CFR 10.107”.

16. In § 2.22, revise paragraph (a)(1)(i) to read as follows:

§ 2.22 Territorial Sea.

(a) * * *

(1) * * *

(i) Statutes included within subtitle II, subtitle VI, and subtitle VII, title 46, U.S.C.; the Act of June 15, 1917, as amended (46 U.S.C. 70051-70054); and the Vessel Bridge-to-Bridge Radiotelephone Act (33 U.S.C. 1201-1208), and any regulations issued under the authority of these statutes.

* * * * *

17. Revise § 2.32(c) to read as follows:

§ 2.32 High Seas.

* * * * *

(c) For the purposes of 14 U.S.C. 522, 14 U.S.C. 545, 33 U.S.C. 409, and 33 U.S.C. 1471 et seq., high seas includes the exclusive economic zones of the United States and other nations, as well as those waters that are seaward of territorial seas of the United States and other nations.

* * * * *

PART 3—COAST GUARD AREAS, DISTRICTS, SECTORS, MARINE INSPECTION ZONES, AND CAPTAIN OF THE PORT ZONES

18. Revise the authority citation for part 3 to read as follows:

Authority: 14 U.S.C. 501, 504; Public Law 107-296, 116 Stat. 2135; Department of Homeland Security Delegation No. 0170.1, para. 2(23).

§ 3.01-5 [Amended]

19. In § 3.01-5, remove the text “14 U.S.C. 633” and add, in its place, the text “14 U.S.C. 503”.

PART 5—COAST GUARD AUXILIARY

20. Revise the authority citation for part 5 to read as follows:

Authority: 14 U.S.C. 503, 3901, 3902, 3903, 3904, 3905, 3907, 3908, 3909, 3910, 3911, 3912, 3913, 4102.

§ 5.1 [Amended]

21. In § 5.1, amend the definition for Auxiliary Act by removing the text “(14 U.S.C. 821-894)” and adding, in its place, the text “(14 U.S.C. 3901-3913 and 4101-4104)”.

§ 5.17 [Amended]

22. In § 5.17, remove the text “14 U.S.C. 823a” and add, in its place, the text “14 U.S.C. 3904”.

§ 5.18 [Amended]

23. In § 5.18 amend paragraph (c) by removing the text “14 U.S.C. 707” and adding, in its place, the text “14 U.S.C. 3707”.

§ 5.30 [Amended]

24. In § 5.30 amend paragraph (b) by removing the text “14 U.S.C. 822” wherever it appears and adding, in its place, the text “14 U.S.C. 3902”.

§ 5.40 [Amended]

25. In § 5.40 amend paragraph (c)(2) by removing the text “14 U.S.C. 638, 639, and 892” and adding, in its place, the text “14 U.S.C. 933, 934, 4102”.

PART 6—PROTECTION AND SECURITY OF VESSELS, HARBORS, AND WATERFRONT FACILITIES

26. Revise the authority citation for part 6 to read as follows:

Authority: 40 Stat. 220, as amended; 50 U.S.C. 70051.

§ 6.18-1 [Amended]

27. In § 6.18-1, remove the text “50 U.S.C. 192” and add, in its place, the text “46 U.S.C. 70052”.

PART 8—UNITED STATES COAST GUARD RESERVE

28. Revise the authority citation for part 8 to read as follows:

Authority: 14 U.S.C. 503.

§ 8.1 [Amended]

29. In § 8.1 amend paragraph (b)(2) by removing the text “14 U.S.C. 712” and adding, in its place, the text “14 U.S.C. 3713”.

PART 13—DECORATIONS, MEDALS, RIBBONS, AND SIMILAR DEVICES

30. Revise the authority citation for part 13 to read as follows:

Authority: 14 U.S.C. 503, 2744; 49 U.S.C. 1655(b); sec. 6(b)(1), 80 Stat. 938; 49 CFR 1.4 (a)(2) and (f).

§ 13.01-1 [Amended]

31. In § 13.01-1, remove the text “14 U.S.C. 500” and add, in its place, the text “14 U.S.C. 2744”.

PART 17—UNITED STATES COAST GUARD GENERAL GIFT FUND

32. Revise the authority citation for part 17 to read as follows:

Authority: 10 U.S.C. 2601; 14 U.S.C. 501, 503; Treasury Dept. Order 167-1, 18 FR 671.

PART 23—DISTINCTIVE MARKINGS FOR COAST GUARD VESSELS AND AIRCRAFT

33. Revise the authority citation for part 23 to read as follows:

Authority: 14 U.S.C. 933, 934; E.O. 10707; 3 CFR, 1954-1958 Comp., p. 364.

34. Amend § 23.30 by:

a. Revising the introductory; and

b. Removing the text “Each person”, and adding in its place, the text, “Every person”.

The revision reads as follows:

§ 23.30 Penalty.

Section 933(b) of title 14 U.S.C. reads as follows:

* * * * *

PART 25—CLAIMS

35. Revise the authority citation for part 25 to read as follows:

Authority: 14 U.S.C. 503; 49 CFR 1.45(a); 49 CFR 1.45(b); 49 CFR 1.46(b), unless otherwise noted.

Subpart A—General

36. In § 25.131, revise paragraphs (a)(5) through (8) to read as follows:

§ 25.131 Delegation of authority.

(a) * * *

(5) To carry out the functions of the Secretary under the Act of August 16, 1937, as amended (14 U.S.C. 546);

(6) To carry out the functions of the Secretary under the Act of June 15, 1936, as amended (14 U.S.C. 937);

(7) To carry out the functions of the Secretary under the Act of August 4, 1949, as amended (14 U.S.C. 938);

(8) To carry out the functions of the Secretary under the Act of February 19, 1941, as amended (14 U.S.C. 3911);

* * * * *

Subpart B—Admiralty Claims

37. Revise the authority citation for subpart B of part 25 to read as follows:

Authority: 14 U.S.C. 503, 937; 49 CFR 1.46(b).

PART 26—VESSEL BRIDGE-TO-BRIDGE RADIOTELEPHONE REGULATIONS

38. Revise the authority citation for part 26 to read as follows:

Authority: 14 U.S.C. 102, 33 U.S.C. 1201-1208; Public Law 107-295, 116 Stat. 2064; Department of Homeland Security Delegation No. 0170. Rule 1, International Regulations for the Prevention of Collisions at Sea.

§ 26.02 [Amended]

39. In the text in parentheses below § 26.02 remove the text “14 U.S.C. 2” and add, in its place, the text “14 U.S.C. 102”.

PART 27—ADJUSTMENT OF CIVIL MONETARY PENALTIES FOR INFLATION

40. The authority citation for part 27 continues to read as follows:

Authority: Secs. 1-6, Public Law 101-410, 104 Stat. 890, as amended by Sec. 31001(s)(1), Public Law 104-134, 110 Stat. 1321 (28 U.S.C. 2461 note); Department of Homeland Security Delegation No. 0170.1, sec. 2 (106).

41. In § 27.3, in Table 1, remove the text “14 U.S.C. 645(i)” wherever it appears, and add, in its place, the text “14 U.S.C. 936(i)”.

PART 40—CADETS OF THE COAST GUARD

42. Revise the authority citation for part 40 to read as follows:

Authority: 14 U.S.C. 503 and 1922.

PART 45—ENLISTMENT OF PERSONNEL

43. Revise the authority citation for part 45 to read as follows:

Authority: 14 U.S.C. 2302, 2371; Public Law 107-296, 116 Stat. 2135.

PART 50—COAST GUARD RETIRING REVIEW BOARD

44. Revise the authority citation for part 50 to read as follows:

Authority: 10 U.S.C. 1554; 14 U.S.C. 501, 503; Department of Homeland Security Delegations No. 0160.1(II)(B)(1), 0170.1(II)(23).

PART 51—COAST GUARD DISCHARGE REVIEW BOARD

45. Revise the authority citation for part 51 to read as follows:

Authority: 10 U.S.C. 1553; 14 U.S.C. 501, 503; Department of Homeland Security Delegations No. 0160.1(II)(B)(1), 0170.1(II)(23).

PART 52—BOARD FOR CORRECTION OF MILITARY RECORDS OF THE COAST GUARD

46. Revise the authority citation for part 52 to read as follows:

Authority: 10 U.S.C. 1552; 14 U.S.C. 501, 503; Department of Homeland Security Delegations No. 0160.1(II)(B)(1), 0170.1(II)(23).

§ 52.2 [Amended]

47. In § 52.2, after paragraph (a) remove the text in parentheses “14 U.S.C. 425” and add, in its place, the text “14 U.S.C. 2507”.

PART 55—CHILD DEVELOPMENT SERVICES

48. Revise the authority citation for part 55 to read as follows:

Authority: 14 U.S.C. 2922.

PART 62—UNITED STATES AIDS TO NAVIGATION SYSTEM

49. Revise the authority citation for part 62 to read as follows:

Authority: 14 U.S.C. 544; 43 U.S.C. 1333; 46 U.S.C. 70031, 70041; Department of Homeland Security Delegation No. 0170.1.

PART 64—MARKING OF STRUCTURES, SUNKEN VESSELS, AND OTHER OBSTRUCTIONS

50. Revise the authority citation for part 64 to read as follows:

Authority: 14 U.S.C. 503; 33 U.S.C. 409; 42 U.S.C. 9118; 43 U.S.C. 1333; 46 U.S.C. 70034; Department of Homeland Security Delegation No. 0170.1.

PART 66—PRIVATE AIDS TO NAVIGATION

51. Revise the authority citation for part 66 to read as follows:

Authority: 14 U.S.C. 542, 543, 544; 43 U.S.C. 1333; Public Law 107-296, 116 Stat. 2135; Department of Homeland Security Delegation No. 0170.1.

§ 66.01-45 [Amended]

52. In § 66.01-45, remove the text “14 U.S.C. 83” and add, in its place, the text “14 U.S.C. 542”.

PART 67—AIDS TO NAVIGATION ON ARTIFICIAL ISLANDS AND FIXED STRUCTURES

53. Revise the authority citation for part 67 to read as follows:

Authority: 14 U.S.C. 503, 544; 43 U.S.C. 1333; Department of Homeland Security Delegation No. 0170.1.

§ 67.40-25 [Amended]

54. In § 67.40-25, remove the text “14 U.S.C. 85” and add, in its place, the text “14 U.S.C. 544”.

PART 70—INTERFERENCE WITH OR DAMAGE TO AIDS TO NAVIGATION

55. Revise the authority citation for part 70 to read as follows:

Authority: 33 U.S.C. 408, 411, 412; 14 U.S.C. 501, 503, 543, 545, 546.

PART 72—MARINE INFORMATION

56. Revise the authority citation for part 72 to read as follows:

Authority: 14 U.S.C. 503, 544; 43 U.S.C. 1333; Department of Homeland Security Delegation No. 0170.1.

§ 72.05-1 [Amended]

57. Amend the text in parentheses after paragraph (b) by removing the text “14 U.S.C. 93” and add, in its place, the text “14 U.S.C. 504”.

PART 74—CHARGES FOR COAST GUARD AIDS TO NAVIGATION WORK

58. Revise the authority citation for part 74 to read as follows:

Authority: 14 U.S.C. 501, 503, 504, 541, 544, 545, 546, 701, 938; 49 CFR 1.46 (b).

§ 74.01-1 [Amended]

59. In § 74.01-1, remove the text “in accordance with Part 25 of this title”.

PART 76—SALE AND TRANSFER OF AIDS TO NAVIGATION EQUIPMENT

60. Revise the authority citation for part 76 to read as follows:

Authority: 14 U.S.C. 501, 901.

PART 80—COLREGS DEMARCATION LINES

61. Revise the authority citation for part 80 to read as follows:

Authority: 14 U.S.C. 102, 503; 33 U.S.C. 151(a).

PART 82 -72 COLREGS: INTERPRETATIVE RULES

62. Revise the authority citation for part 82 to read as follows:

Authority: 14 U.S.C. 102, 503; 33 U.S.C. 1602; E.O. 11964, 42 FR 4327, 3 CFR, 1977 Comp., p. 88; 49 CFR 1.46(n).

PART 83—NAVIGATION RULES

63. The authority citation for part 83 continues to read as follows:

Authority: Sec. 303, Public Law 108-293, 118 Stat. 1042 (33 U.S.C. 2071); Department of Homeland Security Delegation No. 0170.1.

§ 83.22 [Amended]

64. In § 83.22 amend paragraph (c) by removing the text “length—” and adding, in its place, the text “length:”.

PART 100—SAFETY OF LIFE ON NAVIGABLE WATERS

65. The authority citation for part 100 continues to read as follows:

Authority: 46 U.S.C. 70041; 33 CFR 1.05-1.

66. In § 100.35, revise paragraph (c) to read as follows:

§ 100.35 Special local regulations.

* * * * *

(c) The special local regulations referred to in paragraph (a) of this section, when issued and published by the Commander of a Coast Guard District or COTP as authorized by 33 CFR 1.05-1(i), must have the status of regulations issued pursuant to 46 U.S.C 70041.

* * * * *

PART 101—MARITIME SECURITY: GENERAL

67. Revise the authority citation for part 101 to read as follows:

Authority: 46 U.S.C. 70034, 70051, 70052, Chapter 701; Executive Order 12656, 3 CFR 1988 Comp., p. 585; 33 CFR 1.05-1, 6.04-11, 6.14, 6.16, and 6.19; Department of Homeland Security Delegation No. 0170.1.

68. In § 101.415, revise paragraph (a) to read as follow:

§ 101.415 Penalties

(a) Civil and criminal penalty. Violation of any order or other requirement imposed under section 101.405 of this part is punishable by the civil and criminal penalties prescribed in 46 U.S.C. 70036 or 46 U.S.C. 70052, as appropriate.

* * * * *

PART 103—MARITIME SECURITY: AREA MARITIME SECURITY

69. Revise the authority citation for part 103 to read as follows:

Authority: 46 U.S.C. 70034, 70051, 70102, 70103, 70104, 70112, 70116; 33 CFR 1.05-1, 6.04-11, 6.14, 6.16, and 6.19; Department of Homeland Security Delegation No. 0170.1.

PART 104—MARITIME SECURITY: VESSELS

70. Revise the authority citation for part 104 to read as follows:

Authority: 46 U.S.C. 70051, 70116, Chapter 701; 33 CFR 1.05-1, 6.04-11, 6.14, 6.16, and 6.19; Department of Homeland Security Delegation No. 0170.1.

PART 105—MARITIME SECURITY: FACILITIES

71. Revise the authority citation for part 105 to read as follows:

Authority: 46 U.S.C. 70034, 70103, 70116; Sec. 811, Public Law 111-281, 124 Stat. 2905; 33 CFR 1.05-1, 6.04-11, 6.14, 6.16, and 6.19; Department of Homeland Security Delegation No. 0170.1.

§ 105.140 [Amended]

72. In § 105.140 amend paragraph (b) by removing the text “in Appendix A to Part 105—Facility Vulnerability and Security (CG-6025)”, and in its place adding the text, “. The form is available at https://www.dcms.uscg.mil/forms/”.

§ 105.405 [Amended]

73. In § 105.405 amend paragraph (a)(18) by removing the text “in appendix A to this part” and in its place, adding the text, “available at https://www.dcms.uscg.mil/forms/”.

74. In § 105.410, revise paragraph (e) to read as follows:

§ 105.410 Submission and Approval.

* * * * *

(e) Each facility owner or operator that submits one FSP to cover two or more facilities of similar design and operation must address facility-specific information that includes the design and operational characteristics of each facility and must complete a separate Facility Vulnerability and Security Measures Summary (Form CG-6025), for each facility covered by the plan. The form is available at https://www.dcms.uscg.mil/forms/.

* * * * *

Appendix A To Part 105: Facility Vulnerability And Security Measures Summary (Form CG-6025) [Removed]

75. Remove Appendix A to Part 105: Facility Vulnerability and Security Measures Summary (Form CG-6025).

PART 106—MARINE SECURITY: OUTER CONTINENTAL SHELF (OCS) FACILITIES

76. Revise the authority citation for part 106 to read as follows:

Authority: 46 U.S.C. 70051, 70116, Chapter 701; 33 CFR 1.05-1, 6.04-11, 6.14, 6.16, and 6.19; Department of Homeland Security Delegation No. 0170.1.

PART 107—NATIONAL VESSEL AND FACILITY CONTROL MEASURES AND LIMITED ACCESS AREAS

77. Revise the authority citation for part 107 to read as follows:

Authority: 14 U.S.C. 701; 46 U.S.C. 70051, 70052, 70053; Presidential Proclamation 6867, 61 FR 8843, 3 CFR, 1996 Comp., p. 8; Presidential Proclamation 7757, 69 FR 9515 (March 1, 2004); Secretary of Homeland Security Order 2004-001; Department of Homeland Security Delegation No. 0170.1; and 33 CFR 1.05-1.

§ 107.200 [Amended]

78. In § 107.200, amend the definition for U.S. territorial waters by removing the text “50 U.S.C. 195” and adding, in its place, the text “46 U.S.C. 70054”.

PART 109—GENERAL

79. Revise the authority citation for part 109 to read as follows:

Authority: 33 U.S.C. 471; 46 U.S.C. 70034; Public Law 107-296, 116 Stat. 2135; Department of Homeland Security Delegation No. 0170.1.

PART 114—GENERAL

80. Revise the authority citation for part 114 to read as follows:

Authority: 33 U.S.C. 401, 406, 491, 494, 495, 499, 502, 511, 513, 514, 516, 517, 519, 521, 522, 523, 525, 528, 530, 533, and 535(c), (e), and (h); 14 U.S.C. 503; 49 U.S.C. 1655(g); Public Law 107-296, 116 Stat. 2135; 33 CFR 1.05-1 and 1.01-60, Department of Homeland Security Delegation Number 0170.1.

§ 114.05 [Amended]

81. In § 114.05, amend the definition of United States Coast Guard or Coast Guard by removing the text “(14 U.S.C. 1)” and adding, in its place, the text “(14 U.S.C. 101)”.

§ 114.25 [Amended]

82. Amend the text in parentheses below § 114.25 by removing the text “14 U.S.C. 633” and adding, in its place, the text “14 U.S.C. 503”.

§ 114.50 [Amended]

83. Amend the text in parentheses below § 114.50 by removing the text “14 U.S.C. 633” and adding, in its place, the text “14 U.S.C. 503”.

PART 115—BRIDGE LOCATIONS AND CLEARANCES; ADMINISTRATIVE PROCEDURES

84. Revise the authority citation for part 115 to read as follows:

Authority: c. 425, sec. 9, 30 Stat. 1151 (33 U.S.C. 401); c. 1130, sec. 1, 34 Stat. 84 (33 U.S.C. 491); sec. 5, 28 Stat. 362, as amended (33 U.S.C. 499); sec. 11, 54 Stat. 501, as amended (33 U.S.C. 521); c. 753, title V, sec. 502, 60 Stat. 847, as amended (33 U.S.C. 525); 86 Stat. 732 (33 U.S.C. 535); 14 U.S.C. 503.

§ 115.60 [Amended]

85. Amend the text in parentheses below § 115.60 by removing the text “14 U.S.C. 633” and adding, in its place, the text “14 U.S.C. 503”.

§ 115.70 [Amended]

86. Amend the parentheses below § 115.70 by removing the text “14 U.S.C. 633” and adding, in its place, the text “14 U.S.C. 503”.

PART 117—DRAWBRIDGE OPERATION REGULATIONS

87. The authority citation for part 117 continues to read as follows:

Authority: 33 U.S.C. 499; 33 CFR 1.05-1; and Department of Homeland Security Delegation No. 0170.1.

88. Revise § 117.149 to read as follows:

§ 117.149 China Basin, Mission Creek.

The draws of the Third Street bridge, mile 0.0, and the Fourth Street bridge, mile 0.2, both at San Francisco, shall open on signal if at least one hour notice is given.

§ 117.235 [Amended]

89. Amend the § 117.235 introductory text, after the text “mile 7.7,” by adding the text “is operated by the Delmarva Central Railroad Company and”.

90. In § 117.243, revise paragraph (a)(3) to read as follows:

§ 117.243 Nanticoke River.

(a) * * *

(3) When notice is required, the owner operator of the vessel must contact the bridge operator (Delmarva Central Railroad Company) with an estimated time of passage by calling 1-802-774-0305.

* * * * *

§ 117.569 [Amended]

91. In § 117.569 amend paragraph (a) by adding the text “to the bridge operator (Delmarva Central Railroad Company) by calling 1-802-774-0305”after the text “notice is given”, a.

§ 117.785 [Amended]

92. In the section header of § 117.785, remove the word “Genessee” and add, in its place, the word “Genesee”.

§ 117.791 [Amended]

93. In § 117.791 amend paragraph (c) by removing the word “Livingstone” and adding, in its place, the word “Livingston”.

§ 117.903 [Amended]

94. In § 117.903 amend paragraph (a) by removing the text “automated”.

§ 117.1087 [Amended]

95. In § 117.1087 amend paragraphs (b) and (c) by removing the text “Railroad bridge” and adding, in its place, the text “Bridge”.

PART 118—BRIDGE LIGHTING AND OTHER SIGNALS

96. Revise the authority citation for part 118 to read as follows:

Authority: 33 U.S.C. 494; 14 U.S.C. 503, 544; Department of Homeland Security Delegation No. 0170.1.

§ 118.5 [Amended]

97. In § 118.5, remove the text “14 U.S.C. 85” and add, in its place, the text “14 U.S.C. 544”.

PART 125—IDENTIFICATION CREDENTIALS FOR PERSONS REQUIRING ACCESS TO WATERFRONT FACILITIES OR VESSELS

98. Revise the authority citation for part 125 to read as follows:

Authority: R.S. 4517, 4518, secs. 19, 2, 23 Stat. 58, 118, sec. 7, 49 Stat. 1936, sec. 1, 40 Stat. 220; 46 U.S.C. 570-572, 2, 689, 70051 and 70105; E.O. 10173, E.O. 10277, E.O. 10352, 3 CFR, 1949-1953 Comp. pp. 356, 778, 873.

PART 126—HANDLING OF DANGEROUS CARGO AT WATERFRONT FACILITIES

99. Revise the authority citation for part 126 to read as follows:

Authority: 46 U.S.C. 70034; 49 CFR 1.46.

§ 126.13 [Amended]

100. In § 126.13 amend paragraph (b) by removing the text “section 13 of the Ports and Waterways Safety Act (33 U.S.C. 1232)” and adding, in its place, the text “46 U.S.C. 70036”.

§ 126.25 [Amended]

101. In § 126.25, remove the text “section 13 of the Ports and Waterways Safety Act, as amended (33 U.S.C. 1232)” and add, in its place, the text “46 U.S.C. 70036.”

§ 126.33 [Amended]

102. In § 126.33, remove the text “section 13 of the Ports and Waterways Safety Act, as amended (33 U.S.C. 1232)” and add, in its place, the text “46 U.S.C. 70036.”

PART 127—WATERFRONT FACILITIES HANDLING LIQUEFIED NATURAL GAS AND LIQUEFIED HAZARDOUS GAS

103. Revise the authority citation for part 127 to read as follows:

Authority: 46 U.S.C. 70034; 46 U.S.C. Chapter 701; Department of Homeland Security Delegation No. 0170.1.

§ 127.015 [Amended]

104. In § 127.015 amend paragraph (c)(1), by adding the word “Policy”after the word “Prevention”.

PART 143—DESIGN AND EQUIPMENT

105. Revise the authority citation for part 143 to read as follows:

Authority: 43 U.S.C. 1333(d)(1), 1348(c), 1356; 49 CFR 1.46; section 143.210 is also issued under 14 U.S.C. 946 and 31 U.S.C. 9701.

PART 145—FIREFIGHTING EQUIPMENT

106. Revise the authority citation for part 145 to read as follows:

Authority: Sec. 633, 63 Stat. 545; sec. 4, 67 Stat. 462; 14 U.S.C. 503; 43 U.S.C. 1333.

PART 146—OPERATIONS

107. Revise the authority citation for part 146 to read as follows:

Authority: 43 U.S.C. 1333, 1348, 1350, 1356; 46 U.S.C. 70001, 70116; Sec. 109, Public Law No. 109-347, 120 Stat. 1884; Department of Homeland Security Delegation No. 0170.1.

PART 148—DEEPWATER PORTS: GENERAL

108. The authority citation for part 148 continues to read as follows:

Authority: 33 U.S.C. 1504; Department of Homeland Security Delegation No. 0170.1 (75).

§ 148.5 [Amended]

109. Amend the definition of Commandant (CG-5P) by adding the word “Policy” after the word “Prevention”.

§ 148.105 [Amended]

110. In § 148.105 amend paragraph (g)(1)(i) introductory text by removing the text “(CG-5)” and adding in its place, the text “(CG-5P)”.

§ 148.115 [Amended]

111. In § 148.115 amend paragraph (a) by adding the word “Policy” after the word “Prevention”.

112. In § 148.207, revise paragraph (c) to read as follows

§ 148.207 How and Where May I View Docketed Documents?

* * * * *

(c) Docketed material for each deepwater port project is also available to the public electronically at the Federal Docket website at www.regulations.gov. The projects are also listed by name and the assigned docket number at the CG-OES-2 website: https://www.dco.uscg.mil/Our-Organization/Assistant-Commandant-for-Prevention-Policy-CG-5P/Commercial-Regulations-standards-CG-5PS/Office-of-Operating-and-Environmental-Standards/vfos12/.

§ 148.209 [Amended]

113. In § 148.209 amend paragraph (a) by removing the text “http://www.uscg.mil/hq/G-M/mso/docs/dwp_white_house_task_force_energy_streamlining.pdf” and adding, in its place, the text “https://www.dco.uscg.mil/Portals/9/DCO%20Documents/5p/5ps/Operating%20and%20Environmental%20Standards/OES-2/DWP/dwp_white_house_task_force_energy_streamlining.pdf?ver=2017-07-26-102702-223”.

§ 148.222 [Amended]

114. In § 148.222 amend paragraph (b) by removing the text “(CG-5)” and adding, in its place, the text “(CG-5P)”.

§ 148.252 [Amended]

115. In § 148.252 amend paragraph(d) by removing the text “http://cgweb.comdt.uscg.mil/g-cj/subpoena.doc” and adding, in its place, add the text, “https://www.uscg.mil/Resources/Administrative-Law-Judges/General-Suspension-and-Revocation-Information/Subpoena-Information/”.

PART 149—DEEPWATER PORTS: DESIGN, CONSTRUCTION, AND EQUIPMENT

116. The authority citation for part 149 continues to read as follows:

Authority: 33 U.S.C. 1504, 1509; Department of Homeland Security Delegation No. 0170.1 (75).

§ 149.15 [Amended]

117. In § 149.15 amend paragraphs (a), (d) and (e) by removing the text “(CG-5)” and adding, in its place, the text “(CG-5P)”.

PART 150—DEEPWATER PORTS: OPERATIONS

118. Revise the authority citation for part 150 to read as follows:

Authority: 33 U.S.C. 1321(j)(1)(C), (j)(5), (j)(6), (m)(2), 1509(a); 46 U.S.C. 70034; E.O. 12777, sec. 2; E.O. 13286, sec. 34, 68 FR 10619; Department of Homeland Security Delegation No. 0170.1.

PART 151—VESSELS CARRYING OIL, NOXIOUS LIQUID SUBSTANCES, GARBAGE, MUNICIPAL OR COMMERCIAL WASTE, AND BALLAST WATER

119. The authority citation for part 151 continues to read as follows:

Authority: 33 U.S.C. 1321, 1902, 1903, 1908; 46 U.S.C. 6101; Public Law 104-227 (110 Stat. 3034); Public Law 108-293 (118 Stat. 1063), § 623; E.O. 12777, 3 CFR, 1991 Comp. p. 351; DHS Delegation No. 0170.1, sec. 2(77).

§ 151.28 [Amended]

120. In § 151.28 amend paragraphs (a), (b), and (c) by removing the text “(CG-5431)” and adding, in its place, the text “(CG-CVC-1)” wherever it is found.

§ 151.66 [Amended]

121. In § 151.66 amend paragraph (b)(3) by removing the text “Dischrges” in the heading for table 151.66(b)(3), and adding, in its place, the text “Discharges”.

PART 153—CONTROL OF POLLUTION BY OIL AND HAZARDOUS SUBSTANCES, DISCHARGE REMOVAL

122. Revise the authority citation for part 153 to read as follows:

Authority: 14 U.S.C. 503; 33 U.S.C. 1321, 1903, 1908; 42 U.S.C. 9615; 46 U.S.C. 6101; E.O. 12580, 3 CFR, 1987 Comp., p. 193; E.O. 12777, 3 CFR, 1991 Comp., p. 351; Department of Homeland Security Delegation No. 0170.1.

PART 154—FACILITIES TRANSFERRING OIL OR HAZARDOUS MATERIALS IN BULK

123. Revise the authority citation for part 154 to read as follows:

Authority: 33 U.S.C. 1321(j)(1)(C), (j)(5), (j)(6), and (m)(2); 46 U.S.C. 70011, 70034; sec. 2, E.O. 12777, 56 FR 54757; Department of Homeland Security Delegation No. 0170.1. Subpart F is also issued under 33 U.S.C. 2735. Vapor control recovery provisions of Subpart P are also issued under 42 U.S.C. 7511b(f)(2).

PART 155—OIL OR HAZARDOUS MATERIAL POLLUTION PREVENTION REGULATIONS FOR VESSELS

124. Revise the authority citation for part 155 to read as follows:

Authority: 3 U.S.C. 301 through 303; 33 U.S.C. 1321(j), 1903(b), 2735; 46 U.S.C. 70011; 70034; E.O. 12777, 56 FR 54757, 3 CFR, 1991 Comp., p. 351; Department of Homeland Security Delegation No. 0170.1. Section 155.1020 also issued under section 316 of Pub. L. 114-120. Section 155.480 also issued under section 4110(b) of Pub. L. 101-380.

§ 155.1015 [Amended]

125. In § 155.1015 amend paragraph (c)(1) by removing the text “14 U.S.C. 827” and adding, in its place, the text “14 U.S.C. 3908”.

PART 156—OIL AND HAZARDOUS MATERIAL TRANSFER OPERATIONS

126. Revise the authority citation for part 156 to read as follows:

Authority: 33 U.S.C. 1321(j); 46 U.S.C. 3703, 3703a, 3715, 70011, 70034; E.O. 11735, 3 CFR 1971-1975 Comp., p. 793; Department of Homeland Security Delegation No. 0170.1.

PART 160—PORTS AND WATERWAYS SAFETY—GENERAL

127. Revise the authority citation for part 160 to read as follows:

Authority: 46 U.S.C. 70001-70003, 70011, 70034, and 701; Department of Homeland Security Delegation No. 0170.1. Subpart C is also issued under the authority of 33 U.S.C. 70011 and 46 U.S.C. 3715.

128. Revise § 160.1 to read as follows:

§ 160.1 Purpose.

This subchapter contains regulations implementing 46 U.S.C. Chapter 700 “Ports and Waterways Safety” and related statutes.

§ 160.107 [Amended]

129. In § 160.107, remove the text “33 U.S.C. 1221-1232” and add, in its place, the text “46 U.S.C. Chapter 700”.

§ 160.320 [Amended]

130. In § 160.320, remove the text “33 U.S.C. 1223(b)” and add, in its place, the text “46 U.S.C. 70002”.

PART 161—VESSEL TRAFFIC MANAGEMENT

131. Revise the authority citation for part 161 to read as follows:

Authority: 46 U.S.C. 70001, 70002, 70003, 70034, 70114, 70119; Pub. L. 107-295, 116 Stat. 2064; Department of Homeland Security Delegation No. 0170.1.

§ 161.1 [Amended]

132. In § 161.1 amend paragraph (a) by removing the text “the Ports and Waterways Safety Act (PWSA)” and adding, in its place, the text “46 U.S.C. Chapter 700 “Ports and Waterways Safety”.

§ 161.6 [Amended]

133. In § 161.6, remove the text “Chapter 25 of the Ports and Waterways Safety Act (33 U.S.C. 1221 et seq.),” and add, in its place, the text “46 U.S.C. Chapter 700 `Ports and Waterways Safety'”.

PART 162—INLAND WATERWAYS NAVIGATION REGULATIONS

134. Revise the authority citation for part 162 to read as follows:

Authority: 46 U.S.C. 70034; Department of Homeland Security Delegation No. 0170.1.

§ 162.80 [Amended]

135. Amend the text in parentheses below § 162.80 by removing the text “(33 U.S.C. 1231)” and adding, in its place, the text “(46 U.S.C. 70034)”.

PART 164—NAVIGATION SAFETY REGULATIONS

136. Revise the authority citation for part 164 to read as follows:

Authority: 46 U.S.C. 2103, 3703, 70034; E.O. 12234, 45 FR 58801, 3 CFR, 1980 Comp., p. 277. Sec. 164.13 also issued under 46 U.S.C. 8502. Sec. 164.46 also issued under 46 U.S.C. 70114 and Sec. 102 of Pub. L. 107-295. Sec. 164.61 also issued under 46 U.S.C. 6101. Department of Homeland Security Delegation No. 0170.1.

137. Revise the text in parentheses below § 164.25 to read as follows:

§ 164.25 Tests Before Entering or Getting Underway.

* * * * *

(46 U.S.C. Chapter 700; 49 CFR 1.46(n)(4))

138. Revise the text in parentheses below 164.35 to read as follows:

§ 164.35 Equipment: All Vessels

* * * * *

(46 U.S.C. Chapter 700; 49 CFR 1.46(n)(4))

§ 164.37 [Amended]

139. In § 164.37, remove the text “33 U.S.C. 1224; 46 U.S.C. 391(a)” and add, in its place, the text “46 U.S.C. 391(a), 70004”.

§ 164.46 [Amended]

140. In Note 1 to § 164.46(b), remove the text “33 U.S.C. 1223(b)(3)”, and add, in its place, the text “46 U.S.C. 70002”.

141. Revise the text in parentheses below § 164.53 to read as follows:

§ 164.53 Deviations From Rules and Reporting: Non-operating Equipment.

* * * * *

(46 U.S.C. 70034; 49 CFR 1.46(n)(4)).

142. Revise § 164.82(c) to read as follows:

§ 164.82 Maintenance, failure, and reporting.

* * * * *

(c) Reporting. The owner, master, or operator of each towing vessel whose equipment is inoperative or otherwise impaired while the vessel is operating within a Vessel Traffic Service (VTS) Area shall report the fact as required by 33 CFR Table 161.18(a) row Q.

* * * * *

PART 165—REGULATED NAVIGATION AREAS AND LIMITED ACCESS AREAS

143. The authority citation for part 165 continues to read as follows:

Authority: 46 U.S.C. 70034, 70051; 33 CFR 1.05-1, 6.04-1, 6.04-6, and 160.5; Department of Homeland Security Delegation No. 0170.1.

§ 165.5 Establishment Procedures

144. In § 165.5 amend paragraph (a) by removing the text “authorized Coast Guard official” and adding, in its place, the text “Coast Guard official authorized to issue such an order in accordance with 33 CFR 1.05-1.”

§ 165.9 [Amended]

145. In § 165.9 amend paragraph (d) by removing the text “14 U.S.C. 91 and 633” and adding, in its place, the text “14 U.S.C. 503 and 527.”

§ 165.758 [Amended]

146. In § 165.758 amend paragraph (d) by removing the text “33 U.S.C. 1231 and 46 U.S.C. 70051” and adding, in its place, the text “46 U.S.C. 70034 and 70051.”

§ 165.784 [Redesignated]

147. Redesignate § 165.784 as § 165.559.

148. Revise the text in parentheses below § 165.810 to read as follows:

§ 165.810 Mississippi River, LA-regulated navigation area.

* * * * *

(46 U.S.C. 70034; 49 CFR 1.46(n)(4)).

§ 165.14-1414 [Redesignated]

149. Redesignate § 165.14-1414 as § 165.1415.

PART 166—SHIPPING SAFETY FAIRWAYS

150. Revise the authority citation for part 166 to read as follows:

Authority: 46 U.S.C. 70001, 70003; 49 CFR 1.46.

§ 166.110 [Amended]

151. In § 166.110, remove the text “33 U.S.C. 1223(c); 92 Stat. 1473” and add, in its place, the text “46 U.S.C. 70003”.

PART 167—OFFSHORE TRAFFIC SEPARATION SCHEMES

152. Revise the authority citation for part 167 to read as follows:

Authority: 46 U.S.C. 70001, 70003; Department of Homeland Security Delegation No. 0170.0.

§ 167.15 [Amended]

153. In § 167.15 amend paragraph (a) by removing the text “33 U.S.C. 1223 (92 Stat. 1473)” and adding, in its place, the text “46 U.S.C. 70003”.

PART 169—SHIP REPORTING SYSTEMS

154. Revise the authority citation for part 169 to read as follows:

Authority: 46 U.S.C. 70005, 70034, 70115, Department of Homeland Security Delegation No. 0170.1.

155. In § 169.135, revise paragraphs (b)(1) through (3) and (c) to read as follows:

§ 169.135 How must the reports be made?

* * * * *

(b) * * *

(1) By email to rightwhale.msr@noaa.gov;

(2) HF voice communication; or

(3) VHF voice communications.

(c) HF reports made directly to the Coast Guard's Communications Command (COMMCOM) in Chesapeake, VA, or VHF reports made to Coast Guard shore units, should only be made by ships not equipped with INMARSAT C. Ships in this category must provide all the required information to the Coast Guard watchstander.

PART 177—CORRECTION OF ESPECIALLY HAZARDOUS CONDITIONS

156. The authority citation for part 177 continues to read as follows:

Authority: 46 U.S.C. 4302, 4308, 4311; Pub. L. 103-206, 107 Stat. 2439.

§ 177.03 [Amended]

157. In § 177.03 amend paragraph (c) by removing the text “(14 U.S.C. 89)” and adding, in its place, the text “(14 U.S.C. 522)”.

TITLE 46—SHIPPING

PART 1—ORGANIZATION, GENERAL COURSE AND METHODS GOVERNING MARINE SAFETY FUNCTIONS

158. Revise the authority citation for part 1 to read as follows:

Authority: 5 U.S.C. 552; 14 U.S.C. 503; 46 U.S.C. 7701; 46 U.S.C. Chapter 93; Secs. 101, 888, and 1512, Pub. L. 107-296, 116 Stat. 2135; Department of Homeland Security Delegation No. 0170.1; § 1.01-35 also issued under the authority of 44 U.S.C. 3507; and § 1.03-55 also issued under the authority of 46 U.S.C. 3306(j).

Subpart 1.03—Rights of Appeal

159. Revise the authority citation for subpart 1.03 to read as follows:

Authority: 5 U.S.C. 552; 14 U.S.C. 503; 46 U.S.C. 7701; 46 U.S.C. Chapter 93; Public Law 107-296, 116 Stat. 2135; Department of Homeland Security Delegation No. 1070; § 1.01-35 also issued under the authority of 44 U.S.C. 3507.

PART 2—VESSEL INSPECTIONS

160. Revise the authority citation for part 2 to read as follows:

Authority: Sec. 622, Pub. L. 111-281; 33 U.S.C. 1903; 43 U.S.C. 1333; 46 U.S.C. 2103, 2110, 3306, 3703, 70034; Department of Homeland Security Delegation No. 0170.1(II)(77), (90), (92)(a), (92)(b); E.O. 12234, 45 FR 58801, 3 CFR, 1980 Comp., p. 277, sec. 1-105.

PART 4—MARINE CASUALTIES AND INVESTIGATIONS

161. Revise the authority citation for part 4 to read as follows:

Authority: 43 U.S.C. 1333; 46 U.S.C. 2103, 2303A, 2306, 6101, 6301, 6305, 70034; 50 U.S.C. 198; Department of Homeland Security Delegation No. 0170.1. Subpart 4.40 issued under 49 U.S.C. 1903(a)(1)(E).

PART 7—BOUNDARY LINES

162. Revise the authority citation for part 7 to read as follows:

Authority: 14 U.S.C. 503; 33 U.S.C. 151; Department of Homeland Security Delegation No. 0170.1.

PART 8—VESSEL INSPECTION ALTERNATIVES

163. Revise the authority citation for part 8 to read as follows:

Authority: 33 U.S.C. 1903, 1904, 3803 and 3821; 46 U.S.C. 3103, 3306, 3316, 3703, and 70034; Department of Homeland Security Delegation No. 0170.1 and Aug. 8, 2011 Delegation of Authority, Anti-Fouling Systems.

PART 16—CHEMICAL TESTING

164. The authority citation for part 16 continues to read as follows:

Authority: 46 U.S.C. 2103, 3306, 7101, 7301, and 7701; Department of Homeland Security Delegation No. 0170.1.

§ 16.500 [Amended]

165. In § 16.500, remove the text “http://uscg.mil/hq/g-m/moa/dapip.htm” wherever it appears, and add in its place, the text “https://www.dco.uscg.mil/Our-Organization/Assistant-Commandant-for-Prevention-Policy-CG-5P/Inspections-Compliance-CG-5PC-/Office-of-Investigations-Casualty-Analysis/DAPI-Program-Main-Page/”.

PART 28—REQUIREMENTS FOR COMMERCIAL FISHING INDUSTRY VESSELS

166. The authority citation for part 28 continues to read as follows:

Authority: 46 U.S.C. 3316, 4502, 4505, 4506, 6104, 8103, 10603; Department of Homeland Security Delegation No. 0170.1.

§ 28.50 [Amended]

167. In § 28.50, amend the definition of “Coast Guard Boarding Officer” by removing the text “14 U.S.C. 89” and adding, in its place, the text “14 U.S.C. 522”.

§ 28.275 [Amended]

168. In § 28.275 amend paragraph (a)(2) by removing the text “46 CFR” and adding, in its place, the text “§ ”.

PART 30—GENERAL PROVISIONS

169. The authority citation for part 30 continues to read as follows:

Authority: 46 U.S.C. 2103, 3306, 3703; Department of Homeland Security Delegation No. 0170.1(II)(92)(a), (92)(b).

§ 30.30-1 [Amended]

170. In § 30.30-1 amend paragraph (c) by removing the text “33 U.S.C. 1228(a)(5)” and adding, in its place, the text “46 U.S.C. 70021(a)(5)”.

PART 35—OPERATIONS

171. Revise the authority citation for part 35 to read as follows:

Authority: 33 U.S.C. 1321(j); 46 U.S.C. 3306, 3703, 6101, 70011, 70034; 49 U.S.C. 5103, 5106; E.O. 12234, 45 FR 58801, 3 CFR, 1980 Comp., p. 277; E.O. 12777, 56 FR 54757, 3 CFR, 1991 Comp., p. 351; Department of Homeland Security Delegation No. 0170.1.

PART 39—VAPOR CONTROL SYSTEMS

172. Revise the authority citation for part 39 to read as follows:

Authority: 42 U.S.C. 7511b(f)(2); 46 U.S.C. 3306, 3703, 3715(b), 70011, 70034; E.O. 12234, 45 FR 58801, 3 CFR, 1980 Comp., p. 277; Department of Homeland Security Delegation No. 0170.1.

§ 39.1005 [Amended]

173. In § 39.1005 amend paragraph (a) by removing the text “Coast Guard, Office of Design and Engineering Standards (CG-ENG) 2100 2nd Street SW, Stop 7126, Washington, DC 20593-7126” and adding, in its place, the text “Coast Guard Headquarters, Commandant (CG-ENG), Attn: Office of Design and Engineering Standards, U.S. Coast Guard Stop 7509, 2703 Martin Luther King Jr. Avenue SE, Washington, DC 20593-7509”.

§ 39.1015 [Amended]

174. In § 39.1015, remove the text “33 CFR 39.1013(a)” and add, in its place, the text “46 CFR 39.1013(a)”.

PART 68—DOCUMENTATION OF VESSELS: EXCEPTIONS TO COASTWISE QUALIFICATION

175. Revise the authority citation for part 68 to read as follows:

Authority: 14 U.S.C. 946; 31 U.S.C. 9701; 42 U.S.C. 9118; 46 U.S.C. 2103, 2110; 46 U.S.C. app. 876; Department of Homeland Security Delegation No. 0170.1.

Dated: August 26, 2020.
Michael Cunningham,
Chief, Office of Regulations and Administrative Law, U.S. Coast Guard.

[FR Doc. 2020-19177 Filed 9-17-20; 8:45 am]

BILLING CODE 9110-04-P